DEPARTMENT OF LABOR

Employment and Training Administration

Notice of Availability of Funds and Solicitation for Grant Applications for Trade Adjustment Assistance Community College and Career Training Grants

AGENCY: Employment and Training Administration, Labor.

ACTION: Notice of Solicitation for Grant Applications.

Funding Opportunity Number: SGA/DFA PY-12-10.

SUMMARY: The U.S. Department of Labor (the Department) announces the availability of approximately $474 million in grant funds to be awarded under the Trade Adjustment Assistance Community College and Career Training (TAACCCT) grant program. The TAACCCT grant program provides eligible institutions of higher education, as defined in section 102 of the Higher Education Act of 1965 (20 U.S.C. 1002), with funds to expand and improve their ability to deliver education and career training programs that can be completed in two years or less, and are suited for workers who are eligible for training under the Trade Adjustment Assistance (TAA) for Workers Program (“TAA-eligible workers”) of chapter 2 of title II of the Trade Act of 1974, 19 U.S.C. 2271-2323, as well as other adults. Eligible institutions may be located in the 50 States, the District of Columbia, Puerto Rico or the U.S. territories; however, the competitiveness of institutions in the U.S. territories for this Solicitation for Grant Applications (SGA) may be impacted by their limited opportunity to serve TAA-eligible workers. The primary intent of the TAACCCT program is to meet the educational or career training needs of workers who have lost their jobs or are threatened with job loss as a result of foreign trade by funding the expansion and improvement of education and career training programs that are suited for these individuals; however, the Department expects that a wide range of individuals will benefit from the TAACCCT program once education and training programs are developed and implemented.

The Department intends to fund grants to single institution applicants ranging from $2,372,500 to $2.75 million, totaling up to $150 million. This allows the Department to award 54-63 grants to single institutions, potentially funding more than one per state. The Department will award grants up to $25 million to single-state or multi-state consortium applicants, up to approximately $324 million in total awards, which propose programs that impact TAA-eligible workers and other adults across a state, region or regions, industry sector or cluster of related industries.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is June 18, 2013 for single applicants and July 3, 2013 for consortium applicants. Applications must be received no later than 4:00:00 p.m. Eastern Time.

FOR FURTHER INFORMATION CONTACT: Melissa Abdullah, 200 Constitution Avenue NW., Room N-4716, Washington, DC 20210; Telephone: 202-693-3346.

Signed April 17, 2013 in Washington, DC.
Eric D. Luetkenhaus,
Grant Officer, Employment and Training Administration.

[FR Doc. 2013-09561 Filed 4-23-13; 8:45 am]

BILLING CODE 4510-FN-P